DEPARTMENT OF THE INTERIOR

Office of Natural Resources Revenue

[Docket No. ONRR-2011-0001; DS63644000 DR2000000.CH7000 190D1113RT; OMB Control Number 1012-0010]

Agency Information Collection Activities: Solid Minerals and Geothermal Collections

AGENCY: Office of Natural Resources Revenue (ONRR), Interior.

ACTION: Notice of information collection; request for comment.

SUMMARY: In accordance with the Paperwork Reduction Act of 1995, the Office of Natural Resources Revenue (ONRR) is proposing to renew an information collection. ONRR seeks renewed authority to collect information necessary to report the production and royalties on solid minerals and geothermal resources from Federal and Indian lands. In addition to requesting renewed authority for ONRR to collect solid minerals and geothermal information without the use of a form, ONRR seeks renewed authority for four specific ONRR forms. The four forms are the Coal Washing Allowance Report, form ONRR-4292 (ONRR-4292); the Coal Transportation Allowance Report, form ONRR-4293 (ONRR-4293); the Solid Minerals Production and Royalty Report, form ONRR-4430 (ONRR-4430); and the Solid Minerals Sales Summary, form ONRR-4440 (ONRR-4440).

DATES: You must submit your written comments on or before July 8, 2019.

ADDRESSES: You may submit comments on this ICR to ONRR by using one of the following three methods (please reference “ICR 1012-0010” in the subject line of your comments):

1. Electronically go to http://www.regulations.gov. In the entry titled “Enter Keyword or ID,” enter “ONRR-2011-0001” and then click “Search.” Follow the instructions to submit public comments. ONRR will post all comments.

2. Mail comments to Mr. Armand Southall, Regulatory Specialist, ONRR, P.O. Box 25165, MS 64400B, Denver, Colorado 80225-0165.

3. Hand-carry or mail comments, using an overnight courier service, to ONRR. Our courier address is Building 85, Entrance N-1, Denver Federal Center, West 6th Ave. and Kipling St., Denver, Colorado 80225.

FOR FURTHER INFORMATION CONTACT: For questions on technical issues, contact Mr. Michael Anspach, Solid Minerals, ONRR, telephone at (303) 231-3618, or email to Michael.Anspach@onrr.gov. For other questions, contact Mr. Armand Southall, telephone at (303) 231-3221, or email to Armand.Southall@onrr.gov. You may also contact Mr. Southall to obtain copies (free of charge) of (1) the ICR, (2) any associated forms, and (3) the regulations that require the subject collection of information.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues mentioned in the Office of Management and Budget (OMB) regulations at 5 CFR 1320.8(d)(1): (1) Is the collection necessary to perform the proper functions of ONRR; (2) will this information be processed and used in a timely manner; (3) is the estimate of burden accurate; (4) how might ONRR enhance the quality, utility, and clarity of the information to be collected; and (5) how might ONRR minimize the burden of this collection on the respondents, including through the use of information technology.

Comments that you submit in response to this notice are a matter of public record. ONRR will post all comments, including names and addresses of respondents at http://www.regulations.gov. We will include or summarize each comment in our request to the OMB to approve this ICR. Before including your Personally Identifiable Information (PII), such as your address, phone number, email address, or other personal identifying information in your comment(s), you should be aware that your entire comment, including PII, may be made available to the public at any time. While you can ask us, in your comment, to withhold your PII from public view, we cannot guarantee that we will be able to do so. We also will post the ICR at https://www.onrr.gov/Laws_R_D/FRNotices/ICR0120.htm.

I. Abstract

General Information

The Secretary of the United States Department of the Interior is responsible for mineral resource development on Federal and Indian lands and the Outer Continental Shelf (OCS). Under various laws, the Secretary's responsibility is to (1) manage mineral resources production from Federal and Indian lands and the OCS; (2) collect the royalties and other mineral revenues due; and (3) distribute the funds collected. We have posted those laws pertaining to mineral leases on Federal and Indian lands and the OCS at http://www.onrr.gov/Laws_R_D/PubLaws/index.htm.

The Secretary also has a trust responsibility to manage Indian lands and seek advice and information from Indian beneficiaries. ONRR performs the minerals revenue management functions for the Secretary and assists the Secretary in carrying out the Department's trust responsibility for Indian lands.

When a company or an individual enters into a lease to explore, develop, produce, and sell, or otherwise dispose of, minerals from Federal or Indian lands, that company or individual agrees to pay the lessor a share in a value of production from the leased lands. The lessee or designee must report various kinds of information to the lessor relative to the disposition of the leased minerals. Such information is generally available within the records of the lessee or others involved in developing, transporting, processing, purchasing, or selling such minerals.

Information collections that we cover in this ICR are found at title 30 of the Code of Federal Regulations (CFR) parts:

• 1202, subpart H, which pertains to geothermal resources royalties.

• 1206, subparts F, H and J, which pertain to product valuation of Federal coal, geothermal resources and Indian coal.

• 1210, subparts E and H, which pertain to production and royalty reports on solid minerals and geothermal resources leases.

• 1212, subparts E and H, which pertain to recordkeeping of reports and files for solid minerals and geothermal resources leases.

• 1217, subparts E, F and G, which pertain to audits and inspections of coal, other solid minerals and geothermal resources leases.

• 1218, subparts E and F, which pertain to royalties, rentals, bonuses and other monies payment for solid minerals and geothermal resources.

All data reported is subject to subsequent audit and adjustment.

Information Collections

ONRR, acting for the Secretary, uses the information that we collect to ensure that lessees accurately value and appropriately pay all royalties based on the correct product valuation. ONRR and other Federal government entities, including the Bureau of Land Management, the Bureau of Indian Affairs, and State and Tribal governmental entities, use the information for audit purposes and for evaluating the reasonableness of product valuation or allowance claims that lessees submit. Please refer to the burden hour chart for all reporting requirements and associated burden hours.

A. Solid Minerals

Producers of coal and other solid minerals from any Federal or Indian lease must submit to ONRR monthly form ONRR-4430 reports. In addition, producers must submit sales summaries using form ONRR-4440, which ONRR requires every month Federal or Indian production is sold. ONRR also collects sales contracts, facility data, and other unique solid minerals information that it collects without the use of ONRR forms. These companies also report certain data on form ONRR-2014, but these burdens are covered under another ICR (OMB Control Number 1012-0004). Producers of coal from any Indian lease must also submit forms ONRR-4292 and ONRR-4293, if they wish to claim coal washing and coal transportation allowances on form ONRR-4430. The information that ONRR requests is the minimum necessary to carry out our mission and places the least possible burden on respondents.

B. Geothermal Resources

This ICR also covers some of the information collections for geothermal resources, which ONRR groups by usage (electrical generation, direct use, and byproduct recovery), and by disposition of the resources (arm's-length (unaffiliated) contract sales, non-arm's-length contract sales, and no contract sales) within each use group. ONRR relies primarily on data that payors report on form ONRR-2014 (OMB Control Number 1012-0004) for the majority of our business processes related to geothermal information. However, this ICR includes the information ONRR requires to further its mission with respect to geothermal resources that do not involve an ONRR form. In addition to using the data to account for royalties that payors report, ONRR uses the data for monthly distribution of mineral revenues and for audit and compliance reviews.

OMB Approval

We will request OMB approval to continue to collect this information. Not collecting this information would limit the Secretary's ability to discharge fiduciary duties and may also result in the loss of royalty payments. We protect the proprietary information that ONRR receives and do not collect items of a sensitive nature. Reporters must maintain records relating to their solid minerals and geothermal resources and solid minerals producers must also submit forms ONRR-4430 and ONRR-4440. The solid minerals and geothermal resources information ONRR collects without the use of a form are required to obtain a benefit. Also, ONRR requires that reporters submit forms ONRR-4292 and ONRR-4293 to claim allowances on form ONRR-4430.

II. Data

Title of Collection: Solid Minerals and Geothermal Collections—30 CFR parts 1202, 1206, 1210, 1212, 1217 and 1218.

OMB Control Number: 1012-0010.

Form Numbers: ONRR-4292, ONRR-4293, ONRR-4430, and ONRR-4440.

Type of Review: Extension of a currently approved collection.

Respondents/Affected Public: Businesses.

Total Estimated Number of Annual Respondents: 100 reporters.

Total Estimated Number of Annual Responses: 9,434.

Estimated Completion Time per Response: The average completion time is 24.7 minutes per response. The average completion time is calculated by first multiplying the estimated annual burden hours from the table below (3,884) by 60 minutes to obtain the total annual burden minutes (233,040). Then the total annual burden minutes (233,040) is divided by the estimated annual responses (9,434) from the table below.

Total Estimated Number of Annual Burden Hours: 3,884 hours.

Respondent's Obligation: The records maintenance and the filing of forms ONRR-4430 and ONRR-4440 are mandatory. The filing of forms ONRR-4292 and ONRR-4293, and the submission of solid minerals and geothermal resource information that do not have an ONRR form, are required to obtain or retain a benefit.

Frequency of Collection: Monthly, annually, and on occasion.

Estimated Annual Non-hour Cost Burden: We have identified no “non-hour” cost burden associated with the collection of information.

We have not included in our estimates certain requirements that companies perform in the normal course of business and that ONRR considers usual and customary. We display the estimated annual burden hours by CFR section and paragraph in the following chart.

Respondents' Estimated Annual Burden Hours
Citation 30 CFR | Reporting and recordkeeping requirement | Hour burden | Average number annual responses | Annual burden hours
Part 1202—Royalties
Subpart H—Geothermal Resources
1202.351(b)(3) | Pay royalties on used, sold, or otherwise finally disposed of byproducts | Hour burden covered under OMB Control Number 1012-0004.
1202.353(a), (b), (c), and (d) | Report on Form ONRR-2014, royalties or direct use fee due for geothermal resources, byproduct quantity, and commercially demineralized water quantity | Hour burden covered under OMB Control Number 1012-0004. See § 1210.52.
1202.353(e) | Maintain quality measurements for audits | AUDIT PROCESS (See Note).
Part 1206—Product Valuation
Subpart F—Federal Coal
1206.253(c); 1206.254; and 1206.257(d)(1) | Maintain accurate records for Federal lease coal and all data relevant to the royalty value determination. Report the coal quantity information on appropriate forms under 30 CFR part 1210 | 0.4166 | 816 | 340
1206.257(b)(1), (b)(3), (b)(4), and (d)(2) | Demonstrate and certify your arm's-length contract provisions including all consideration paid by buyer, directly or indirectly, for coal production. Provide written information of reported arm's-length coal sales value and quantity data | AUDIT PROCESS See Note.
1206.257(d)(3) | Submit a one-time notification when first reporting royalties on Form ONRR-4430 and for a change in method | 2 | 3 | 6
1206.257(f) | Submit all available data relevant to the value determination proposal | 5 | 2 | 10
1206.257(i) | Write and sign contract revisions or amendments by all parties to an arm's-length contract, and retroactively apply revisions or amendments to royalty value for a period not to exceed two years | 2 | 3 | 6
1206.259(a)(1) and (a)(3) | Demonstrate that your contract is arm's length. Provide written information justifying the lessee's washing costs | AUDIT PROCESS (See Note).
1206.259(a)(1) | Report actual washing allowance on Form ONRR-4430 for arm's-length sales | 0.34 | 12 | 4
1206.259(b)(1) | Report actual washing allowance on Form ONRR-4430 for non-arm's-length or no contract sales | 0.75 | 48 | 36
1206.259(b)(2)(iv) | Report washing allowance on Form ONRR-4430 after lessee elects either method for a wash plant | 1 | 3 | 3
1206.259(b)(2)(iv)(A) | Report washing allowance on Form ONRR-4430 for depreciation—use either straight-line or a unit of production method | 1 | 3 | 3
1206.259(c)(1)(ii) and (c)(2)(iii) | Submit arm's-length and non-arm's-length washing contracts and related documents to ONRR | AUDIT PROCESS (See Note).
1206.262(a)(1) | Report transportation allowance on Form ONRR-4430 | 0.333 | 240 | 80
1206.262(a)(1) and (a)(3) | Demonstrate that your contract is arm's length. Provide written information justifying your transportation costs when ONRR determines the costs are unreasonable | AUDIT PROCESS (See Note).
1206.262(b)(1) | Report actual transportation allowance on Form ONRR-4430 for non-arm's-length or no contract sales | 0.75 | 24 | 18
1206.262(b)(2)(iv) | Report transportation allowance on Form ONRR-4430 after lessee elects either method for a transportation system | 1 | 3 | 3
1206.262(b)(2)(iv)(A) | Report transportation allowance on Form ONRR-4430 for depreciation—use either straight-line or a unit of production method | 1 | 3 | 3
1206.262(b)(3) | Apply to ONRR for exception from the requirement of computing actual costs | 1 | 3 | 3
1206.262(c)(1)(ii) and (c)(2)(iii) | Submit all arm's-length transportation contracts, production agreements, operating agreements, and related documents to ONRR | AUDIT PROCESS (See Note).
1206.264 | Propose the value of coal for royalty purposes to ONRR for an ad valorem Federal coal lease | 1 | 1 | 1
1206.265 | Notify ONRR if, prior to use, sale, or other disposition, you enhanced the value of coal | 1 | 1 | 1
Subpart H—Geothermal Resources
1206.352(b)(1)(ii) | Determine the royalty on produced geothermal resources, used in your power plant for generation and sale of electricity, for Class I leases, as approved by ONRR | Hour burden covered under OMB Control Number 1012-0004.
1206.353(c)(2)(i)(A), (d)(9), and (e)(4) | Include a return on capital you invested when the purchase of real estate for transmission facilities is necessary. Allowable operating and maintenance expenses include other directly allocable and attributable operating and maintenance expenses that you can document | AUDIT PROCESS (See Note).
1206.353(g) | Request change to other depreciation alternative method with ONRR approval | 1 | 1 | 1
1206.353(h)(1) and (m)(2) | Use a straight-line depreciation method, but not below salvage value, for equipment. Amend your prior estimated Form ONRR-2014 reports to reflect actual transmission cost deductions, and pay any additional royalties due plus interest | Hour burden covered under OMB Control Number 1012-0004.
1206.353(n) | Submit all arm's-length transmission contracts, production and operating agreements and related documents, and other data for calculating the deduction | AUDIT PROCESS (See Note).
1206.354(b)(1)(ii) | Redetermine your generating cost rate annually and request ONRR approval to use a different deduction period | 1 | 1 | 1
1206.354(c)(2)(i)(A), (d)(9), and (e)(4) | Include a return on capital you invested when the purchase of real estate for a power plant site is necessary. Allowable operating and maintenance expenses include other directly allocable and attributable operating and maintenance expenses that you can document | AUDIT PROCESS (See Note).
1206.354(g) | Request change to other alternative with ONRR approval | 1 | 1 | 1
1206.354(h) and (m)(2) | Use a straight-line depreciation method, but not below the salvage value, for equipment. Amend your prior estimated Form ONRR-2014 reports to reflect actual generating cost deductions and pay any additional royalties due plus interest | Hour burden covered under OMB Control Number 1012-0004.
1206.354(n) | Submit all arm's-length power plant contracts, production and operating agreements and related documents, and other data for calculating the deduction | AUDIT PROCESS (See Note).
1206.356(a)(1) and (a)(2) | Determine the royalty on produced significant geothermal resource quantities, for Class I leases, with the weighted average of the arm's-length gross proceeds used to operate the same direct-use facility; For Class I leases, the efficiency factor of the alternative energy source will be 0.7 for coal and 0.8 for oil, natural gas, and other fuels derived from oil and natural gas, or an efficiency factor proposed by the lessee and approved by ONRR | Hour burden covered under OMB Control Number 1012-0004.
1206.356(a)(3) | For Class I leases, a royalty determined by any other reasonable method approved by ONRR | 1 | 40 | 40
1206.356(b)(3) | Provide ONRR data showing the geothermal production amount, in pounds or gallons of geothermal fluid, to input into the fee schedule for Class III leases | Hour burden covered under OMB Control Number 1012-0004.
1206.356(c) | ONRR will determine fees on a case-by-case basis for geothermal resources other than hot water | 1 | 1 | 1
1206.357(b)(3); and 1206.358(d) | Determine the royalty due on byproducts by any other reasonable valuation method approved by ONRR. Use a discrete field on Form ONRR-2014 to notify ONRR of a transportation allowance | Hour burden covered under OMB Control Number 1012-0004.
1206.358(d)(2) and (e); 1206.359(a)(1), (a)(2), (c)(2)(i)(A), (d)(9), and (e)(4) | Submit arm's-length transportation contracts for reviews and audits, if ONRR requires. Pay any additional royalties due plus interest, if you have improperly determined a byproduct transportation allowance. Provide written information justifying your transportation costs if ONRR requires you to determine the byproduct transportation allowance. Include a return on capital if the purchase was necessary. Allowable operating and maintenance expenses include any other directly allocable and attributable operating and maintenance expenses that you can document | AUDIT PROCESS (See Note).
1206.359(g) | The lessee may not later elect to change to the other alternative without ONRR approval to compute costs associated with capital investment | 1 | 1 | 1
1206.359(h)(1) and (l)(2) | You must use a straight-line depreciation method based on the life of either equipment or geothermal project. You must amend your prior Form ONRR-2014 reports to reflect actual byproduct transportation cost deductions and pay any additional royalties due plus interest | Hour burden covered under OMB Control Number 1012-0004.
1206.360(a)(1), (a)(2), and (b); 1206.361(a)(1) | Retain all data relevant to the royalty value, or fee you paid. Show how you calculated the royalty value or fee you reported and paid, then submit all data to ONRR upon request. ONRR may review and audit your data and will direct you to use a different measure, if royalty value, gross proceeds, or fee is inconsistent with subpart | AUDIT PROCESS (See Note).
1206.361(a)(2) | Pay either royalties or fees due plus interest if ONRR directs you to use a different royalty value, measure of gross proceeds, or fee | Hour burden covered under OMB Control Number 1012-0004
1206.361(b), (c), and (d) | ONRR may require you to: Increase the gross proceeds to reflect any additional consideration; use another valuation method; provide written information justifying your gross proceeds; demonstrate that your contract is arm's length; and certify that the provisions in your sales contract include all of the consideration the buyer paid you | AUDIT PROCESS (See Note).
1206.361(f)(2) | Write and sign contract revisions or amendments by all parties to the contract | AUDIT PROCESS (See Note).
1206.364(a)(1) | Request a value determination from ONRR in writing | 12 | 1 | 12
1206.364(c)(2) | Make any adjustments in royalty payments, if you owe additional royalties, and pay the royalties owed plus interest after the Assistant Secretary issues a determination | Hour burden covered under OMB Control Number 1012-0004.
1206.364(d)(2) | You may appeal an order requiring you to pay royalty under the determination | Hour burden covered under OMB Control Number 1012-0006.
1206.366 | State, tribal, or local government lessee must pay a nominal fee, if it uses a geothermal resource | Hour burden covered under OMB Control Number 1012-0004.
Subpart J—Indian Coal
1206.456(b)(1), (b)(3), and (b)(4) | Demonstrate that your contract is arm's length. Provide written information justifying the reported coal value. And certify that your arm's-length contract provisions include all direct or indirect consideration paid by buyer for the coal production | AUDIT PROCESS (See Note).
1206.456(d)(1); 1206.452 (c); 1206.453 | Retain all data relevant to the determination of royalty value to which individual Indian lease coal should be allocated. Report coal quantity information on Form ONRR-4430, Solid Minerals Production and Royalty Report, as required under 30 CFR part 1210 | 0.42 | 48 | 20
1206.456(d)(2) | An Indian lessee will make available arm's-length sales and sales quantity data for like-quality coal sold, purchased, or otherwise obtained from the area when requested by an authorized ONRR or Indian representative, or the Inspector General of the Department of the Interior or other persons authorized to receive such information | AUDIT PROCESS (See Note).
1206.456(d)(3) | Notify ONRR by letter identifying the valuation method used and procedure followed. This is a one-time notification due no later than the month the lessee first reports royalties on the Form ONRR-4430 | 1 | 1 | 1
1206.456(f) | Propose a value determination method to ONRR, submit all available data relevant to the method, and use that method until ONRR issues a decision | 1 | 1 | 1
1206.456(i) | Write and sign contract revisions or amendments by all parties to an arm's-length contract | 1 | 1 | 1
1206.458(a)(1), (b)(1), (c)(1)(i), (c)(1)(iii), (c)(2)(i), and (c)(2)(iii) | Deduct the reasonable actual coal washing allowance costs incurred under an arm's-length contract, and allowance based upon their reasonable actual costs under a non-arm's-length or no contract, after submitting a completed page one of Form ONRR-4292, Coal Washing Allowance Report, containing the actual costs for the previous reporting period, within 3 months after the end of the calendar year after the initial and for succeeding reporting periods, and report deduction on Form ONRR-4430 for an arm's-length, or a non-arm's-length, or no contract | 2 | 1 | 2
1206.458(a)(3) | Provide written information justifying your washing costs when ONRR determines that your washing value may be unreasonable | AUDIT PROCESS (See Note).
1206.458(b)(2)(iv) | The lessee may not later elect to change to the other alternative without ONRR approval | 1 | 1 | 1
1206.458(b)(2)(iv)(A) | Elect either a straight-line depreciation method based on the life of equipment or reserves, or a unit of production method | 1 | 1 | 1
1206.458(c)(1)(iv) and (c)(2)(vi) | Submit arm's-length washing contracts and all related data used on Form ONRR-4292 | AUDIT PROCESS (See Note).
1206.461(a)(1), (b)(1), (c)(1)(i), (c)(1)(iii), (c)(2)(i), and (c)(2)(iii) | Submit a completed page one of Form ONRR-4293, Coal Transportation Allowance Report, of reasonable, actual transportation allowance costs incurred by the lessee for transporting the coal under an arm's-length contract, in which you may claim a transportation allowance retroactively for a period of not more than 3 months prior to the first day of the month that you filed the form with ONRR, unless ONRR approves a longer period upon a showing of good cause by the lessee. Submit also a completed Form ONRR-4293 based upon the lessee's reasonable actual costs under a non-arm's-length or no contract. (Emphasis added.) | 2 | 1 | 2
1206.461(a)(3) | Provide written information justifying your transportation costs when ONRR determines that your transportation value may be unreasonable | AUDIT PROCESS (See Note).
1206.461(b)(2)(iv) | Submit completed Form ONRR-4293 after a lessee has elected to use either method for a transportation system | 1 | 1 | 1
1206.461(b)(2)(iv)(A) | Submit completed Form ONRR-4293 to compute depreciation for election to use either a straight-line depreciation or unit-of-production method | 1 | 1 | 1
1206.461(b)(3) | Submit completed Form ONRR-4293 for exception from the requirement of computing actual costs | 1 | 1 | 1
1206.461(c)(1)(iv) and (c)(2)(vi) | Submit arm's-length transportation contracts, production and operating agreements, and related documents used on Form ONRR-4293 | AUDIT PROCESS (See Note).
1206.463 | Propose the value of coal for royalty purposes to ONRR for an ad valorem Federal coal lease | 1 | 1 | 1
1206.464 | Notify ONRR if, prior to use, sale or other disposition, you enhance the value of coal | 1 | 1 | 1
Part 1210—Forms and Reports
Subpart E—Solid Minerals, General
1210.201(a)(1); 1206.259(c)(1)(i), (c)(2), (e)(2); 1206.262(c)(1), (c)(2)(i), (e)(2); 1206.458(c)(4), (e)(2); 1206.461(c)(4), (e)(2) | Submit a completed Form ONRR-4430. Report washing and transportation allowances as a separate line on Form ONRR-4430 for arm's-length, non-arm's-length, or no contract sales, unless ONRR approves a different reporting procedure. Submit also a corrected Form ONRR-4430 to reflect actual costs, together with any payment, in accordance with instructions provided by ONRR | 0.75 | 1,668 | 1,251
1210.202(a)(1) and (c)(1) | Submit sales summaries (using form ONRR-4440) via electronic mail where possible for all coal and other solid minerals produced from Federal and Indian leases and for any remote storage site | 1 | 900 | 900
1210.203(a) | Submit sales contracts, agreements, and contract amendments for sale of all coal and other solid minerals produced from Federal and Indian leases with ad valorem royalty terms | 1 | 30 | 30
1210.204(a)(1) | Submit facility data if you operate a wash plant, refining, ore concentration, or other processing facility for any coal, sodium, potassium, metals, or other solid minerals produced from Federal or Indian leases with ad valorem royalty terms | 0.5 | 130 | 65
1210.205(a) and (b) | Submit detailed statements, documents, or other evidence necessary to verify compliance, as requested | AUDIT PROCESS (See Note).
Subpart H—Geothermal Resources
1210.351 | Maintain geothermal records on microfilm, microfiche, or other recorded media | Hour burden covered under OMB Control Number 1012-0004.
1210.352 | Submit additional geothermal information on special forms or reports | 1 | 1 | 1
1210.353 | Submit completed Form ONRR-2014 monthly once sales or utilization of geothermal production occur | Hour burden covered under OMB Control Number 1012-0004.
Part 1212—Records and Forms Maintenance
Subpart E—Solid Minerals—General
1212.200(a) | Maintain all records pertaining to Federal and Indian solid minerals leases for 6 years after records are generated unless the record holder is notified, in writing | 0.25 | 4,064 | 1,016
Subpart H—Geothermal Resources
1212.351(a) and (b) | Retain accurate and complete records necessary to demonstrate that payments of royalties, rentals, and other amounts due under Federal geothermal leases are in compliance with laws, lease terms, regulations, and orders Maintain all records pertaining to Federal geothermal leases for 6 years after the records are generated unless the record holder is notified in writing | Hour burden covered under OMB Control Numbers 1012-0004.
Part 1217—Audits and Inspections
Subpart E—Coal
1217.200 | Furnish, free of charge, duplicate copies of audit reports that express opinions on such compliance with Federal lease terms relating to Federal royalties as directed by the Director for the Office of Natural Resources Revenue | AUDIT PROCESS (See Note).
Subpart F—Other Solid Minerals
1217.250 | Furnish, free of charge, duplicate copies of annual or other audits of your books | AUDIT PROCESS (See Note).
Subpart G—Geothermal Resources
1217.300 | The Secretary, or his/her authorized representative, will initiate and conduct audits or reviews that relate to compliance with applicable regulations | AUDIT PROCESS (See Note).
Part 1218—Collection of Monies and Provision for Geothermal Credits and Incentives
Subpart E—Solid Minerals—General
1218.201(b); 1206.457(b); 1206.460(d) | You must tender all payments under § 1218.51 except for Form ONRR-4430 payments, include both your customer identification and your customer document identification numbers on your payment document, and you shall be liable for any additional royalties, plus interest, if you improperly determined a washing or transportation allowance | 0.0055 | 1,368 | 8
1218.203(a) and (b) | Recoup an overpayment on Indian mineral leases through a recoupment on Form ONRR-4430 against the current month's royalties and submit the tribe's written permission to ONRR | 1 | 1 | 1
Subpart F—Geothermal Resources
1218.300; 1218.301; 1218.304; 1218.305(a) | Submit all rental and deferred bonus payments when due and pay in value all royalties due determined by ONRR. The payor shall tender all payments. Pay the direct use fees in addition to the annual rental due. Pay advanced royalties, under 43 CFR 3212.15(a)(1) to retain your lease, that equal to the average monthly royalty you paid under 30 CFR part 1206, subpart H | Hour burden covered under OMB Control Number 1012-0004.
1218.306(a)(2) | You may receive a credit against royalties if ONRR approves in advance your contract | 4 | 1 | 4
1218.306(b) | Pay in money any royalty amount that is not offset by the credit allowed under this section | Hour burden covered under OMB Control Number 1012-0004.
Total Burden |  |  | 9,434 | 3,884
Note: Audit Process—The Office of Regulatory Affairs determined that the audit process is exempt from the Paperwork Reduction Act of 1995 because ONRR staff asks non-standard questions to resolve exceptions.

An agency may not conduct or sponsor, and a person is not required to respond to, a collection of information unless it displays a currently valid OMB control number.

Authority: Paperwork Reduction Act of 1995 (44 U.S.C. 3501 et seq).

Gregory J. Gould,
Director for the Office of Natural Resources Revenue.

[FR Doc. 2019-09300 Filed 5-6-19; 8:45 am]

BILLING CODE 4335-30-P